DEPARTMENT OF COMMERCE

International Trade Administration

[A-844-802]

Uranium From Uzbekistan; Preliminary Results of Sunset Review of Suspended Antidumping Duty Investigation

AGENCY: Import Administration, International Trade Administration, Department of Commerce.

ACTION: Notice of preliminary results of full sunset review: Uranium from Uzbekistan.

SUMMARY: On August 2, 1999, the Department of Commerce (“the Department”) initiated a sunset review of the antidumping duty suspension agreement on uranium from Uzbekistan (64 FR 41915) pursuant to section 751(c) of the Tariff Act of 1930, as amended (“the Act”). On the basis of a notice of intent to participate filed on behalf of domestic and respondent interested parties, the Department determined to conduct a full review. As a result of this review, the Department preliminarily finds that revocation of the antidumping duty suspension agreement would likely lead to continuation or recurrence of dumping at the levels indicated in the Preliminary Results of Review section of this notice.

EFFECTIVE DATE: February 28, 2000.

FOR FURTHER INFORMATION CONTACT: Kathryn B. McCormick or Melissa G. Skinner, Office of Policy for Import Administration, International Trade Administration, U.S. Department of Commerce, 14th Street and Constitution Avenue, NW, Washington, D.C. 20230; telephone: (202) 482-1930 or (202) 482-1560, respectively.

SUPPLEMENTARY INFORMATION:

Statute and Regulations

This review is being conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”) and in CFR Part 351 (1999) in general. Guidance on methodological or analytical issues relevant to the Department's conduct of sunset reviews is set forth in the Department's Policy Bulletin 98.3—Policies Regarding the Conduct of Five-year (“Sunset”) Reviews of Antidumping and Countervailing Duty Orders; Policy Bulletin, 63 FR 18871 (April 16, 1998) (“Sunset Policy Bulletin”).

Background

On August 2, 1999, the Department initiated a sunset review of the antidumping duty suspension agreement on uranium from Uzbekistan (64 FR 41915), pursuant to section 751(c) of the Act. The Department received Notices of Intent to Participate on behalf of domestic interested parties, the Ad Hoc Committee, ¹ USEC, Inc. and its subsidiary, the United States Enrichment Corporation (collectively, “USEC”), and Paper, Allied-Industrial, Chemical and Energy Workers International Union, AFL-CIO (“PACE”), within the applicable deadline (August 17, 1999) specified in section 351.218(d)(1)(i) of the Sunset Regulations. On August 27, 1999, we received a notice of intent to participate on behalf of AHUG.² The Ad Hoc Committee claimed interested-party status under section 771(9)(C) of the Act, as the only U.S. producers of a domestic like product; AHUG claimed interested-party status as industrial users of uranium; ³ PACE claimed interested-party status as a union representing workers of two domestic gaseous diffusion plants that produce uranium products.

¹ The Ad Hoc Committee consists of Rio Algom Mining Corporation, Uranium Resources Inc., and Cotter Corporation.

² AHUG consists of Ameren UE, Baltimore Gas and Electric Co., Carolina Power and Light Co., Commonwealth Edison Co., Consumers Energy, Duke Power Co., Entergy Services, Inc., FirstEnergy Nuclear Operating Co., Florida Power and Light Co., Northern States Power Co., PECO Energy Co., Southern Nuclear Operating Co., Texas Utilities Electric Co., and Virginia Power.

³ The Department notes that, although industrial users are allowed to participate in sunset reviews, they are not considered “interested parties” as defined in the statute and regulations. See section 771(9) and 777(h) of the Act, and 19 CFR 351.32.

The Ad Hoc Committee claims that, along with the Oil, Chemical and Atomic Workers International Union, it was the original petitioner in the suspended antidumping investigation and resulting suspension agreement under review (see September 1, 1999, Substantive Response of the Ad Hoc Committee at 4). AHUG did not submit a summary of its past participation in the proceeding.

On September 1, 1999, the Government of Uzbekistan (“GOU”) and Navoi Mining and Metallurgical Combinat (“Navoi”) notified the Department of their intent to participate in the review. GOU is an interested party pursuant to section 771(9)(B) of the Act as the government of a country in which subject merchandise is produced and exported; Navoi is an interested party pursuant to section 771(9)(A) of the Act as a foreign producer and exporter of subject merchandise. GOU and Navoi note that they actively participated in the proceedings in July 1992, once they became aware of the action brought by the United States against uranium from Uzbekistan.

On September 1, 1999, we received complete substantive responses from the above domestic and respondent interested parties, and industrial users, with the exception of USEC and PACE,⁴ within the 30-day deadline specified in the Sunset Regulations under section 351.218(d)(3)(i). On September 2, 1999, we received a request for an extension to file rebuttal comments from the AHUG.⁵ Pursuant to 19 CFR 351.302(b) (1999), the Department extended the deadline for all participants eligible to file rebuttal comments until September 13, 1999.⁶ On September 14, 1999, pursuant to 19 CFR 351.218(e)(1)(ii)(A), the Department determined to conduct a full (240-day) sunset review of this suspension agreement.⁷

⁴ See September 9, 1999, Letter to the Secretary from Philip H. Potter withdrawing PACE from participation in the sunset reviews of uranium from Russia, Uzbekistan, and Ukraine.

⁵ See September 2, 1999, Request for an Extension to File Rebuttal Comments in the Sunset Reviews of Uranium from Russia, Uzbekistan, and Ukraine from Shaw Pittman to the Office of Policy.

⁶ See September 3, 1999, Letter from Jeffrey A. May, Director of the Office of Policy to Nancy A. Fischer of Shaw Pittman.

⁷ See May 24, 1999, Memoranda for Jeffrey A. May, Re: Sunset Reviews of Uranium from Russia and Uzbekistan: Adequacy of Respondent Interested Party Response to the Notice of Initiation.

In accordance with section 751(c)(5)(C)(v) of the Act, the Department may treat a review as extraordinarily complicated if it is a review of a transition order (i.e., an order in effect on January 1, 1995). Accordingly, on November 22, 1999, the Department determined that the sunset review of the uranium investigation is extraordinarily complicated, and extended the time limit for completion of the preliminary results of this review until not later than February 18, 2000, in accordance with section 751(c)(5)(B) of the Act.⁸

⁸ See Extension of Time Limit for Preliminary Results of Full Five-Year Reviews, 64 FR 66879 (November 30, 1999).

Scope of Review

The merchandise covered in the June 3, 1992, preliminary determination of the suspended investigation includes natural uranium in the form of uranium ores and concentrates; natural uranium metal and natural uranium compounds; alloys, dispersions (including cermets), ceramic products, and mixtures containing natural uranium or natural uranium compound; uranium enriched in U²³⁵ and its compounds; alloys dispersions (including cermets), ceramic products and mixtures containing uranium enriched in U²³⁵ or compounds or uranium enriched in U²³⁵; and any other forms of uranium within the same class or kind. According to the Department's preliminary determination, the uranium subject to these investigations is provided for under subheadings 2612.10.00.00, 2844.10.10.00, 2844.10.20.10, 2844.10.20.25, 2844.10.20.50, 2844.10.20.55, 2844.10.50, 2844.20.00.10, 2844.20.00.20, 2844.20.00.30, and 2844.20.00.50 of the Harmonized Tariff Schedule of the United States (“HTSUS”).⁹ In addition, the Department preliminarily determined that highly-enriched uranium (“HEU”) is not covered within the scope of the investigation, and that the subject merchandise constitutes a single class or kind of merchandise.

⁹ See Preliminary Determination of Sales at Less Than Fair Value: Uranium from Kazakhstan, Kyrgyzstan, Russia, Tajikistan, Ukraine and Uzbekistan; and Preliminary Determination of Sales at Not Less Than Fair Value: Uranium from Armenia, Azerbaijan, Byelarus, Georgia, Moldova and Turkmenistan, 57 FR 23381, 23382 (June 3, 1992).

On October 30, 1992, the Department issued a suspension of the antidumping duty investigation of uranium from Uzbekistan and an amendment of the preliminary determination.¹⁰ The suspension agreement (the “Agreement”) provided that uranium ore from Uzbekistan that is milled into U3O⁸ and/or converted into UF⁶ in another country prior to direct and/or indirect importation into the United States is considered uranium from Uzbekistan and is subject to the terms of the Agreement.¹¹ Further, uranium enriched in U²³⁵ in another country prior to direct and/or indirect importation into the United States is not considered uranium from Uzbekistan and is not subject to the terms of this Agreement.¹² In this Agreement, imports of uranium ores and concentrates, natural uranium compounds, and all forms of enriched uranium are classifiable under HTSUS subheadings 2612.10.00, 2844.10.20, 2844.20.00, respectively. Imports of natural uranium metal and forms of natural uranium other than compounds are classifiable under HTSUS subheadings 2844.10.10 and 2844.44.10.50. Although the above HTSUS subheadings are provided for convenience and customs purposes, the written description remains dispositive.

¹⁰ See Antidumping; Uranium from Kazakhstan, Kyrgyzstan, Russia, Tajikistan, Ukraine, and Uzbekistan; Suspension of Investigations and Amendment of Preliminary Determinations, 57 FR 49220 (October 30, 1992).

¹¹ Id. at 49255.

¹² Id.

The Department determined in the amendment that HEU and any other forms of uranium within the same class or kind are included in the scope of the investigations.¹³

¹³ Id. at 49221.

Analysis of Comments Received

All issues raised in the case and rebuttal briefs by parties to this sunset review are addressed in the “Issues and Decision Memorandum” (“Decision Memo”) from Jeffrey A. May, Director, Office of Policy, Import Administration, to Robert S. LaRussa, Assistant Secretary for Import Administration, dated February 18, 2000, which is hereby adopted and incorporated by reference into this notice. The issues discussed in the attached Decision Memo include the likelihood of continuation or recurrence of dumping and the magnitude of the margin likely to prevail were the suspension investigation terminated. Parties can find a complete discussion of all issues raised in this review and the corresponding recommendations in this public memorandum which is on file in B-099.

In addition, a complete version of the Decision Memo can be accessed directly on the Web at www.ita.doc.gov/import_admin/records/frn/, under the heading “Uzbekistan.” The paper copy and electronic version of the Decision Memo are identical in content.

Preliminary Results of Review

We determine that revocation of the antidumping duty suspension agreement on uranium from Uzbekistan would be likely to lead to continuation or recurrence of dumping at the following percentage weighted-average margin:

Manufacturer/exporters | Margin (percent)
All Uzbek manufacturers/exporters | 115.82

Any interested party may request a hearing within 30 days of publication of this notice in accordance with 19 CFR 351.310(c). Any hearing, if requested, will be held on April 18, 2000, in accordance with 19 CFR 351.310(d). Interested parties may submit case briefs no later than April 10, 2000, in accordance with 19 CFR 351.309(c)(1)(i). Rebuttal briefs, which must be limited to issues raised in the case briefs, may be filed not later than April 14, 2000. The Department will issue a notice of final results of this sunset review, which will include the results of its analysis of issues raised in any such, no later than June 27, 2000.

This five-year (“sunset”) review and notice are in accordance with sections 751(c), 752, and 777(i)(1) of the Act.

Dated: February 18, 2000.
Robert S. LaRussa,
Assistant Secretary for Import Administration.

[FR Doc. 00-4618 Filed 2-25-00; 8:45 am]

BILLING CODE 3510-DS-P